DEPARTMENT OF AGRICULTURE

Agricultural Marketing Service

[Doc. No. AMS-TM-11-0029; TM-11-02]

Notice of Request for Approval of a New Information Collection

AGENCY: Agricultural Marketing Service, USDA.

ACTION: Notice and request for comments.

SUMMARY: In accordance with the Paperwork Reduction Act of 1995 (44 U.S.C. chapter 35), this notice announces the Agricultural Marketing Service's (AMS) intention to request approval, from the Office of Management and Budget, for a new information collection titled Data Collection for Container Availability.

DATES: Comments on this notice must be received by May 31, 2011 to be assured of consideration.

Additional Information or Comments: Contact April Taylor, Transportation Services Division, Transportation and Marketing Program, Agricultural Marketing Service, U.S. Department of Agriculture, 1800 M Street, NW.—Room 3017 South, Washington, DC 20036, telephone 202-295-7374, fax 202-694-5948.

SUPPLEMENTARY INFORMATION: Title: Data Collection for Container Availability.

OMB Number: 0581-[New].

Expiration Date of Approval: [THREE YEARS FROM DATE OF OMB APPROVAL].

Type of Request: New request for information collection.

Abstract: The Agricultural Marketing Act of 1946 (7 U.S.C. 1621-1627) directs and authorizes the collection and dissemination of marketing information including adequate outlook information, on a market area basis, for the purpose of anticipating and meeting consumer requirements aiding in the maintenance of farm income and to bring about a balance between production and utilization.

As part of the Agricultural Marketing Service, the Transportation Services Division (TSD) provides insightful agricultural transportation information and analysis to help move agricultural products to market. TSD informs, represents, and assists agricultural shippers and government policymakers through: Market reports, representation, analysis, assistance, and responses to inquiries. TSD collects data for its analysis from public resources as well as unique data sources to help the agricultural exporters make the most out of the transportation options available.

The new Data Collection for Container Availability will provide U.S. agricultural exporters with weekly data detailing the availability of containers at select locations around the country. AMS will collect these data on a voluntary basis from ocean container carriers and then provide these up-to-date data in an aggregate report on its Web site. The goal of the report is to provide more transparency in the market for the location and availability of marine shipping containers for U.S. exporters. Exporters will be able to use this tool to make more knowledgeable decisions about which locations provide the best chance for finding available containers to move their products overseas.

Estimate of Burden: Public reporting burden for this collection of information is estimated to average 1.61 hours per response.

Respondents: Ocean Container/Liner Carriers and the Westbound Transpacific Stabilization Agreement.

Estimated Number of Respondents: 21.

Estimated Total Annual Responses: 1,092.

Estimated Number of Responses per Respondent: 52.

Estimated Total Annual Burden on Respondents: 1,759.26.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to April Taylor, Transportation Services Division, Transportation and Marketing Program, Agricultural Marketing Service, U.S. Department of Agriculture, 1800 M Street, NW.—Room 3017 South, Washington, DC 20036, telephone 202-295-7374, fax 202-694-5948. All comments received will be available for public inspection during regular business hours at the same address.

All responses to this notice will be summarized and included in the request for OMB approval. All comments will become a matter of public record.

Dated: March 28, 2011.
David R. Shipman,
Associate Administrator, Agricultural Marketing Service.

[FR Doc. 2011-7757 Filed 3-31-11; 8:45 am]

BILLING CODE 3410-02-P